DEPARTMENT OF LABOR

Occupational Safety and Health Administration

[Docket No. OSHA-2010-0044]

Advisory Committee on Construction Safety and Health (ACCSH); Notice of Reestablishment of Charter

AGENCY: Occupational Safety and Health Administration (OSHA), Labor.

ACTION: Notice of reestablishment of the ACCSH Charter.

SUMMARY: The Secretary of Labor has reestablished the Charter of the Advisory Committee on Construction Safety and Health (ACCSH) for two years.

FOR FURTHER INFORMATION CONTACT: Mr. Francis Dougherty, Office of Construction Services, Directorate of Construction, Occupational Safety and Health Administration, Room N-3468, U.S. Department of Labor, 200 Constitution Avenue, NW., Washington, DC 20210; telephone (202) 693-2020 (TTY (877) 889-5627).

SUPPLEMENTARY INFORMATION: In accordance with the Federal Advisory Committee Act (FACA), as amended (5 U.S.C. App. 2), and its implementing regulations (41 CFR 102-3 et seq.), the Secretary of Labor (Secretary) is reestablishing the ACCSH Charter for two years. The Charter will be dated, signed, and filed on October 29, 2010 and will expire two years from the date filed.

ACCSH is a continuing advisory committee established under Section 107 of the Contract Work Hours and Safety Standards Act (Construction Safety Act (CSA))(40 U.S.C. 3704(d)(4)), to advise the Secretary and the Assistant Secretary of Labor for Occupational Safety and Health in the formulation of construction safety and health standards as well as on policy matters arising under the CSA and the Occupational Safety and Health Act of 1970 (OSH Act)(29 U.S.C. 651 et seq.).

FACA requires that all advisory committees, including committees established by Congress, file a new charter every two years (5 U.S.C. App. 2 § 14(b)(2)). The ACCSH charter expired on May 6, 2010.

The new Charter includes minor updates to reflect increases in the Committee's annual operating budget ($180,000 to $272,000) and to indicate that ACCSH is generally expected to meet between three and four times per year.

Authority and Signature

David Michaels, PhD, MPH, Assistant Secretary of Labor for Occupational Safety and Health, directed the preparation of this notice. The authority for this notice is granted by section 7 of the Occupational Safety and Health Act of 1970 (29 U.S.C. 656), section 107 of the Contract Work Hours and Safety Standards Act (Construction Safety Act) (40 U.S.C. 3701 et seq.), the Federal Advisory Committee Act (5 U.S.C. App. 2), 29 CFR part 1912, 41 CFR part 102-3, and Secretary of Labor's Order No. 4-2010 (75 FR 55355 (9/10/2010).

Signed in Washington, DC, this eighth day of October 2010.
David Michaels,
Assistant Secretary of Labor for Occupational Safety and Health.

[FR Doc. 2010-25868 Filed 10-13-10; 8:45 am]

BILLING CODE 4510-26-P